DEPARTMENT OF HEALTH AND HUMAN SERVICES

Centers for Disease Control and Prevention

[30 DAY-17-02]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project: EEOICPA Dose Reconstruction Interviews and Form—Extension—The National Institute for Occupational Safety and Health (NIOSH), Centers for Disease Control and Prevention (CDC). On October 30, 2000, the Energy Employees Occupational Illness Compensation Program Act of 2000 (Public Law 106-398) was enacted. This Act established a federal compensation program for employees of the Department of Energy (DOE) or certain of its contractors, subcontractors and vendors, who have suffered cancers and other designated illnesses as a result of exposures sustained in the production and testing of nuclear weapons.

Executive Order 13179 was issued on December 7, 2000; it delegated authorities assigned to the President under the Act to the Departments of Labor, Health and Human Services, Energy, and Justice. The Department of Health and Human Services (DHHS) was delegated the responsibility of establishing methods for estimating radiation doses received by eligible claimants with cancer applying for compensation. NIOSH is to apply these methods to estimate the radiation doses of such individuals applying for compensation.

In performance of its dose reconstruction responsibilities under the Act, NIOSH will interview claimants (or their survivors) individually and provide them with the opportunity, through a structured interview, to assist NIOSH in documenting the work history of the employee (characterizing the actual work tasks performed), identifying incidents that may have resulted in undocumented radiation exposures, characterizing radiologic protection and monitoring practices, and identifying co-workers and other witnesses as may be necessary to confirm undocumented information. In this process, NIOSH will use a computer assisted telephone interview (CATI) system, which will allow interviews to be conducted more efficiently and quickly than would be the case with a paper-based interview instrument.

NIOSH will use the data collected in this process to complete an individual dose reconstruction that accounts as fully as possible for all possible radiation dose incurred by the employee in the line of duty for DOE nuclear weapons production programs. After dose reconstruction, NIOSH will also perform a brief final interview with the claimant, to explain the results and to allow the claimant to confirm or question the record NIOSH has compiled. This will also be the final opportunity for the claimant to supplement the dose reconstruction record.

At the conclusion of the dose reconstruction process, the claimant will need to submit a form (OCAS-1) to confirm that all information available to the claimant has been provided. The form will notify the claimant that signing the form allows NIOSH to forward a dose reconstruction report to DOL and to the claimant, and closes the record on data used for the dose reconstruction. The dose reconstruction results will be supplied to the claimant and to the DOL which will factor them into its determination whether the claimant is eligible for compensation under the Act.

On October 31, 2001, the Office of Management and Budget approved DHHS’ request for emergency Paperwork Reduction Act clearance, so that NIOSH could begin its dose reconstruction duties under the Act. That emergency clearance expires on April 30, 2002. This notice pertains to DHHS request for normal Paperwork Reduction Act clearance to permit NIOSH to continue conducting dose reconstruction activities after April 30, 2002. The total annual burden for this data collection is 16,250 hours.

Respondents | Number of respondents | Number of responses | Average burden per response (in hrs)
Initial interview | 15,000 | 1 | 60/60
Conclusion form | 15,000 | 1 | 5/60

Dated: February 1, 2002.
Julie Fishman,
Acting Deputy Director for Policy, Planning and Evaluation, Centers for Disease Control and Prevention.

[FR Doc. 02-3151 Filed 2-8-02; 8:45 am]

BILLING CODE 4163-18-P